ENVIRONMENTAL PROTECTION AGENCY

40 CFR Part 52

[EPA-R09-OAR-2006-0322; FRL-8190-2]

Approval and Promulgation of Implementation Plans; Las Vegas Valley Carbon Monoxide Attainment Plan

AGENCY: Environmental Protection Agency (EPA).

ACTION: Final rule.

SUMMARY: EPA is taking final action to approve a revised attainment plan, as modified to withdraw the motor vehicle emissions budget for 2030, for the Las Vegas Valley carbon monoxide nonattainment area as a revision to the Nevada state implementation plan. The revised attainment plan, as modified, includes revised base year and future year emissions inventories and a revised demonstration of continued attainment of the carbon monoxide national ambient air quality standard in Las Vegas Valley through 2020 based on the most recent emissions models and planning assumptions and establishes new motor vehicle emissions budgets. EPA is acting under section 110(k) of the Clean Air Act, which obligates the Agency to take action on State submittals of revisions to state implementation plans. The intended effect of this approval action is to update the carbon monoxide motor vehicle emissions budgets in the Las Vegas area and thereby make them available for the purposes of transportation conformity.

DATES: This rule is effective on September 6, 2006.

ADDRESSES: EPA has established a docket for this action under Docket ID No. EPA-R09-OAR-2006-0322. All documents in the docket are listed on the http://www.regulations.gov Web site. Although listed in the index, some information is not publicly available, e.g., CBI or other information whose disclosure is restricted by statute. Certain other information, such as copyrighted material, will be publicly available only in hard copy. Publicly available docket materials are available either electronically in http://www.regulations.gov or in hard copy at EPA Region IX, 75 Hawthorne Street, San Francisco, California. To inspect the hard copy materials, please schedule an appointment during normal business hours with the contact listed in the FOR FURTHER INFORMATION CONTACT section.

FOR FURTHER INFORMATION CONTACT: Karina O'Connor, EPA Region IX, telephone number: (775) 833-1276; fax number: (775) 833-1276; e-mail address: oconnor.karina@epa.gov.

SUPPLEMENTARY INFORMATION: Throughout this document, “we,” “us” and “our” refer to EPA.

Table of Contents

I. What Action Did EPA Propose?

II. Is the Background for This Rule?

III. What Comments Did We Receive on the Proposed Action?

IV. What Is Our Final Action?

V. Statutory and Executive Order Reviews

I. What Action Did EPA Propose?

On May 9, 2006 (71 FR 26910), under section 110(k) of the Clean Air Act (CAA or “Act”), we proposed to approve the Carbon Monoxide State Implementation Plan Revision, Las Vegas Valley Nonattainment Area, Clark County, Nevada (October 2005), which was adopted by the Clark County Board of Commissioners on October 4, 2005 and submitted to EPA by NDEP on February 14, 2006, as a revision to the Nevada SIP on the condition that Clark County and the State of Nevada withdraw the 2030 motor vehicle emission budget, or, in the alternative, we propose to disapprove the plan. Specifically, we proposed to approve the plan's revised base year and projected emission inventories and modeling demonstration of continued attainment of the CO standard through 2020. Our proposed disapproval was based on our finding that the plan does not demonstrate continued attainment in year 2030 because it lacks micro-scale modeling analysis for the environs of the County's airports in that year.

Furthermore, we found that, with the exception of the 2030 budget, the new motor vehicle emissions budgets established in the plan are also consistent with continued attainment of the CO NAAQS in Las Vegas Valley. Thus, we proposed to approve the motor vehicle emissions budgets from the 2005 CO plan for 2006, 2010, 2015, and 2020 as meeting the purposes of section 176(c)(1) and the transportation conformity rule at 40 CFR 93, subpart A contingent upon the withdrawal of the 2030 budget by Clark County and the State of Nevada, and to disapprove the submitted budgets in the 2005 CO plan, in the alternative, if no such withdrawal was made.

As discussed below, the State of Nevada has submitted a second SIP revision that withdraws the 2030 budget, and we received no comments on our proposal, and thus, we are taking final action to approve the 2005 CO plan, as amended, and to approve the related motor vehicle emissions budgets for 2006, 2010, 2015, and 2020.

II. What Is the Background for This Rule?

Based on monitoring data from the mid-1970's, EPA designated Las Vegas Valley ¹ as a carbon monoxide (CO) nonattainment area under the Clean Air Act (CAA or “Act”), as amended in 1977. See 43 FR 8962, 9012 (March 3, 1978). In response, Clark County and the State of Nevada adopted and implemented various air quality plans and programs, including a vehicle inspection and maintenance (I/M) program, to reduce CO levels in Las Vegas Valley, but the CO national ambient air quality standards (NAAQS) were not attained by the then-applicable 1987 attainment date. [EPA approved these plans and programs at various times as revisions to the Nevada state implementation plan (SIP).]

¹ The boundaries of the Las Vegas Valley CO nonattainment area are defined by reference to State hydrographic area #212, which covers the central portion of Clark County. See 40 CFR 81.329.

The CAA was significantly amended by Congress in 1990 to establish new attainment dates and planning and control requirements for areas that had failed to attain the NAAQS under the 1977 Amendments. Under the 1990 Amended Act, Las Vegas Valley was initially classified as a “moderate” nonattainment area for CO but was later reclassified as a “serious” CO nonattainment area after having missed the attainment date for moderate areas.

In response to the “moderate”, and then “serious,” nonattainment classification and related CAA requirements, Clark County and the State of Nevada adopted and implemented new air quality plans and programs, including a “serious” area attainment plan, the Carbon Monoxide State Implementation Plan, Las Vegas Valley Nonattainment Area, Clark County, Nevada (August 2000) (“2000 CO plan”). In 2004, we approved the 2000 CO plan and related motor vehicle emissions budgets for years 2000, 2010 and 2020. See 69 FR 56351, September 21, 2004.

In response to changes in the EPA-approved motor vehicle emission factor model and higher-than-forecast increases in population growth in Las Vegas Valley, the Clark County Department of Air Quality and Environmental Management (DAQEM), in consultation with the Regional Transportation Commission of Southern Nevada (RTC), undertook a comprehensive air quality planning effort to review and update the 2000 CO plan and the associated motor vehicle emission budgets to maintain consistency for future transportation conformity findings. The planning efforts culminated in the preparation of the Carbon Monoxide State Implementation Plan Revision, Las Vegas Valley Nonattainment Area, Clark County, Nevada (October 2005) (“2005 CO plan”). The Clark County Board of Commissioners adopted the 2005 CO plan on October 4, 2005, and the Nevada Division of Environmental Protection (NDEP) submitted the plan to EPA as a revision to the Nevada SIP on February 14, 2006.

The 2005 CO plan, as adopted on October 4, 2005 and submitted on February 14, 2006, includes revised base year and future year emissions inventories and a revised demonstration of continued attainment of the CO NAAQS in Las Vegas Valley through 2030 based on the most recent emissions models and planning assumptions and establishes new motor vehicle emissions budgets. The inventories and modeling demonstration included in the 2005 CO plan relate to analysis years 1996, 2006, 2010, 2015, 2020 and 2030. The plan allocates almost all of the estimated safety margins ² in years 2006, 2010, 2015, 2020, and 2030 to the on-road motor vehicle emissions category. Based on our review and evaluation of NDEP's February 14, 2006 SIP revision submittal, we proposed to approve the 2005 CO plan on the condition that Clark County and the State of Nevada withdraw the 2030 motor vehicle emission budget, or, in the alternative, to disapprove the plan. See 71 FR 26910 (May 9, 2006).

² The term “safety margin” refers to the amount by which the total projected emissions from all sources of a given pollutant are less than the total emissions that would satisfy the applicable requirement for reasonable further progress, attainment or maintenance. See 40 CFR 93.101. The 2005 CO plan also allocates a small portion of the safety margins to certain point sources.

As stated in our proposed rule published on May 9, 2006, our objection to the 2030 budget was premised on our finding that the plan lacks micro-scale modeling analysis for the environs of the County's airports in that year. In response, on May 2, 2006, Clark County adopted a revision to the 2005 CO plan that involved withdrawal of the 2030 budget and revision and replacement of the specific section of the plan (section 7.3, page 7-2, “Mobile Source Emissions Budget”) that identifies the emissions budgets. On May 12, 2006, NDEP submitted the amended page of the plan to EPA as a SIP revision together with evidence of adoption of this amendment by the Clark County Board of Commissioners. We have reviewed the May 12, 2006 submittal, and find that it meets the condition we placed on the proposed approval of the 2005 CO plan, and thus we are taking final action today to approve the plan, as amended.

Please see the proposed rule at 71 FR 26910 (May 9, 2006) for more information about the background leading up to the submittal of the 2005 CO plan and our review and evaluation of the plan.

III. What Comments Did We Receive on the Proposed Action?

EPA provided a 30-day review and comment period on the proposal published in the Federal Register on May 9, 2006 (71 FR 26910). We received no comments on our proposed rulemaking.

IV. What Is Our Final Action?

Pursuant to section 110(k) of the Act and for the reasons set forth above and in the proposed rule, we are approving the Carbon Monoxide State Implementation Plan Revision, Las Vegas Valley Nonattainment Area, Clark County, Nevada (October 2005), as adopted on October 4, 2005 by the Clark County Board of Commissioners and submitted by NDEP on February 14, 2006, and as amended by the board on May 2, 2006 and submitted by NDEP on May 12, 2006, as a revision to the Nevada SIP.

Our approval is based on our evaluation of the plan submittals and determination that the plan's revised base year and projected emission inventories and modeling demonstration of continued attainment of the CO standard through 2020 reflect acceptable methods and the most recent models and planning assumptions.

Furthermore, we find that the new motor vehicle emissions budgets established in the plan and reflecting scaled inventories are also consistent with continued attainment of the CO NAAQS in Las Vegas Valley. Thus, we are approving the following motor vehicle emissions budgets from the 2005 CO plan, as modified by the withdrawal of the 2030 budget as set forth in NDEP's February 12, 2006 submittal, as meeting the purposes of section 176(c)(1) and the transportation conformity rule at 40 CFR part 93, subpart A:

CO Motor Vehicle Emissions Budget
[December weekday]
Year | Tons per day
2006 | 623
2010 | 690
2015 | 768
2020 | 817

Our action today in approving the above budgets has the effect of replacing the previously-approved CO motor vehicle emissions budgets from the Las Vegas Valley 2000 CO plan for the purposes of transportation conformity.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves an air quality plan as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state plan implementing a Federal standard and does not alter the relationship or the distribution of power and responsibilities established in the Clean Air Act. This rule also is not subject to Executive Order 13045, “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 6, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: June 20, 2006.
Wayne Nastri,
Regional Administrator, Region IX.

Part 52, chapter I, title 40 of the Code of Federal Regulations is amended as follows:

PART 52—[AMENDED]

1. The authority citation for part 52 continues to read as follows:

Authority: 42 U.S.C. 7401 et seq.

Subpart DD—Nevada

2. Section 52.1470 is amended by adding paragraphs (c)(57) and (c)(58) to read as follows:

§ 52.1470 Identification of plan.

* * * * *

(c) * * *

(57) The following plan revision was submitted on February 14, 2006, by the Governor's designee.

(i) Incorporation by reference.

(A) Clark County Department of Air Quality and Environmental Management.

(1) Carbon Monoxide State Implementation Plan Revision, Las Vegas Valley Nonattainment Area, Clark County, Nevada, adopted on October 4, 2005 by the Clark County Board of Commissioners (with the exception of section 7.3 (page 7-2), “Mobile Source Emissions Budget”).

(58) The following plan revision was submitted on May 12, 2006, by the Governor's designee.

(i) Incorporation by reference.

(A) Clark County Department of Air Quality and Environmental Management.

(1) Section 7.3 (page 7-2), “Mobile Source Emissions Budget” of the Carbon Monoxide State Implementation Plan Revision, Las Vegas Valley Nonattainment Area, Clark County, Nevada, adopted on May 2, 2006 by the Clark County Board of Commissioners.

[FR Doc. E6-12761 Filed 8-4-06; 8:45 am]

BILLING CODE 6560-50-P